DEPARTMENT OF COMMERCE

Foreign-Trade Zones Board

[B-94-2013]

Foreign-Trade Zone (FTZ) 99—Wilmington, Delaware, Notification of Proposed Production Activity, Noramco, Inc., (Pharmaceutical Intermediate), Wilmington, Delaware

The Delaware Economic Development Office, grantee of FTZ 99, submitted a notification of proposed production activity to the FTZ Board on behalf of Noramco, Inc. (Noramco), located in Wilmington, Delaware. The notification conforming to the requirements of the regulations of the FTZ Board (15 CFR 400.22) was received on November 4, 2013.

The Noramco facility is located at 500 Swedes Landing, Wilmington, Delaware. A separate application for subzone designation at the Noramco facility is being submitted and will be processed under Section 400.38 of the FTZ Board's regulations. The facility is used for the production of a pharmaceutical intermediate, tapentadol hydrochloride, which Noramco plans to transfer to another FTZ facility for further processing. Pursuant to 15 CFR 400.14(b), FTZ activity would be limited to the specific foreign-status materials and specific products listed in the submitted notification (as described below) and subsequently authorized by the FTZ Board.

Production under FTZ procedures could exempt Noramco from customs duty payments on the foreign status inputs used in export production. On its domestic sales, Noramco would be able to choose the duty rate during customs entry procedures that apply to the tapentadol hydrochloride (duty free) for the foreign status inputs noted below. Additionally, customs duties could be deferred or reduced on foreign status production equipment.

The chemical inputs sourced from abroad are: 2S,3R-1-(dimethylamino)-3-(3-methoxyphenyl)-2-methyl-3-pentanol; and, (2R,3R)-3-(3-methoxyphenyl)-N,N,2-trimethylpentanamine monohydrobromide (duty rate, 6.5%).

Public comment is invited from interested parties. Submissions shall be addressed to the FTZ Board's Executive Secretary at the address below. The closing period for their receipt is December 23, 2013.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: November 5, 2013.
Andrew McGilvray,
Executive Secretary.

[FR Doc. 2013-27175 Filed 11-12-13; 8:45 am]

BILLING CODE 3510-DS-P